ENVIRONMENTAL PROTECTION AGENCY

[EPA-HQ-OPP-2018-0014; FRL-10002-91]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows an October 25, 2019 Federal Register Notice of Receipt of Requests from the registrants listed in Table 3 of Unit II to voluntarily cancel and amend to terminate uses of these product registrations. In the October 25, 2019 notice, EPA indicated that it would issue an order implementing the cancellations and amendments to terminate uses, unless the Agency received substantive comments within the 30-day comment period that would merit its further review of these requests, or unless the registrants withdrew their requests. The Agency did not receive any comments on the notice. Further, the registrants did not withdraw their requests. Products, 45728-29, 57787-14, OR-160011 & WA-020030, have been removed from this cancellation order because they are already listed in a maintenance fee cancellation notice. Accordingly, EPA hereby issues in this notice a cancellation order granting the requested cancellations and amendments to terminate uses. Any distribution, sale, or use of the products subject to this cancellation order is permitted only in accordance with the terms of this order, including any existing stocks provisions.

DATES: The cancellations and amendments are effective January 3, 2020.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to terminate uses, as requested by registrants, of products registered under FIFRA section 3 (7 U.S.C. 136a). These registrations are listed in sequence by registration number in Table 1 and Table 2 of this unit.

Table 1—Product Cancellations
Registration No. | Company No. | Product name | Active ingredients
228-709 | 228 | Super Boll | Ethephon.
464-782 | 464 | Aqucar PS 20 Water Treatment Microbiocide | Tetrakis(hydroxymethyl)phosphonium sulphate (THPS).
464-8126 | 464 | Aqucar PS 75 Water Treatment Microbiocide | Tetrakis(hydroxymethyl)phosphonium sulphate (THPS).
464-8127 | 464 | Aqucar THPS 75MFG Water Treatment Microbiocide | Tetrakis(hydroxymethyl)phosphonium sulphate (THPS).
464-8129 | 464 | Aqucar PS 75C MUP Water Treatment Microbiocide | Tetrakis(hydroxymethyl)phosphonium sulphate (THPS).
1258-1279 | 1258 | Pool Breeze Pool Care System Shock 35 | Lithium hypochlorite.
1381-227 | 1381 | Imidacloprid 75% WSP Turf Insecticide | Imidacloprid.
2792-28 | 2792 | Deccosol 122 Concentrate | o-Phenylphenol, sodium salt.
2792-54 | 2792 | Deccosan 315 | Alkyl* dimethyl benzyl ammonium chloride *(60%C14, 30%C16, 5%C18, 5%C12 & Alkyl* dimethyl ethylbenzyl ammonium chloride *(68%C12, 32%C14).
7313-25 | 7313 | Clear Wood Preservative | Folpet & Carbamic acid, butyl-, 3-iodo-2-propynyl ester.
7364-94 | 7364 | Poolcare Lithium | Lithium hypochlorite.
8660-150 | 8660 | Vertagreen Fertilizer With 1% Surflan | Oryzalin.
34688-80 | 34688 | Aquatreat DNM-9 | Nabam & Sodium dimethyldithiocarbamate.
34688-81 | 34688 | Aquatreat DNM-360 | Nabam & Sodium dimethyldithiocarbamate.
62719-605 | 62719 | Clincher EZ | Cyhalofop-butyl.
62719-613 | 62719 | Clincher GR | Cyhalofop-butyl.
62719-647 | 62719 | Clincher Granule | Cyhalofop-butyl.
62719-651 | 62719 | Clincher 5G | Cyhalofop-butyl.
69681-7 | 69681 | Clor Mor Lithium Shock | Lithium hypochlorite.
69681-35 | 69681 | Clor Mor Silver Algaecide | Nanosilver 002.
70127-2 | 70127 | Novozymes Biofungicide Green Releaf 710-140 | Bacillus licheniformis strain SB3086 & Indole-3-butyric acid.
70127-3 | 70127 | Novozymes Biofungicide 145F | Indole-3-butyric acid & Bacillus licheniformis strain SB3086.
85678-54 | 85678 | Flucarbazone Technical | Flucarbazone-sodium.
87663-2 | 87663 | Emery Agro 7010 Ready-To-Use (RTU) | Pelargonic acid, ammonium salt.
87663-4 | 87663 | Emery Agro 7030 Concentrate | Pelargonic acid, ammonium salt.
87663-5 | 87663 | Emery Agro 7040 Ready-To-Use (RTU) | Pelargonic acid, ammonium salt.
87663-6 | 87663 | Emerion 7001 Concentrate | Pelargonic acid, ammonium salt.
87663-7 | 87663 | Emerion 7031 Concentrate | Pelargonic acid, ammonium salt.
87703-1 | 87703 | 8 in 1 Bird Protector | Paradichlorobenzene.
88356-1 | 88356 | Niccanon ZP-700 | Zinc pyrithione.
CA-070010 | 71711 | Talus 40 SC Insect Growth Regulator | Buprofezin.
CA-080013 | 62719 | Lorsban Advanced | Chlorpyrifos.
CA-140001 | 70506 | Manzate Pro-Stick Fungicide | Mancozeb.
CO-030009 | 400 | Terrazole 4EC | Etridiazole.
CO-070004 | 66222 | Rimon 0.83 EC | Novaluron.
KS-170003 | 10163 | Treflan TR-10 | Trifluralin.
OR-060021 | 66222 | Rimon 0.83 EC | Novaluron.
OR-080024 | 279 | Fyfanon ULV AG | Malathion (NO INERT USE).
SD-150001 | 62719 | Enlist Duo | 2,4-D, Choline salt & Glycine, N-(phosphonomethyl)-, compd. with N-methylmethanamine (1:1).
TX-060016 | 56228 | Compound DRC-1339 Concentrate—Livestock, Nest & Fodder Depredations | Starlicide.
UT-170006 | 10163 | Treflan TR-10 | Trifluralin.

Table 2—Product Registration Amendments to Terminate Uses
Registration No. | Company No. | Product name | Active ingredient | Uses to be terminated
1475-21 | 1475 | Paradichlorobenzene | Paradichlorobenzene | Bird cage use.
42750-148 | 42750 | Propazine 4L | Propazine | Greenhouse use.
42750-149 | 42750 | Propazine Technical | Propazine | Greenhouse use.
46923-11 | 46923 | Copper Sulfate Pentahydrate Technical | Copper sulfate pentahydrate | Wood preservative use.
80990-3 | 80990 | Agri-Seed 50 WP | Streptomycin sulfate | Residential use.
87108-1 | 87108 | PDCB Molten Insecticide | Paradichlorobenzene | Bird use.
87108-2 | 87108 | PDCB Flakes | Paradichlorobenzene | Bird use.

Table 3 of this unit includes the names and addresses of record for all the registrants of the products listed in Tables 1 and 2 of this unit, in sequence by EPA company number. This number corresponds to the first part of the EPA registration numbers of the products listed in Table 1 and Table 2 of this unit.

Table 3—Registrants of Cancelled and Amended Products
EPA company No. | Company name and address
228 | NuFarm Americas, Inc., 4020 Aerial Center Pkwy., Ste. 101, Morrisville, NC 27560.
279 | FMC Corporation, 2929 Walnut Street, Philadelphia, PA 19104.
400 | Macdermid Agricultural Solutions, Inc., C/O Arysta Lifescience North America, LLC, Agent Name: UPL NA Inc., 630 Freedom Business Center, #402, King of Prussia, PA 19406.
464 | DDP Specialty Electronic Materials US, Inc., 1501 Larkin Center Drive, Midland, MI 48674.
1258 | Arch Chemicals, Inc., 1200 Bluegrass Lakes Parkway, Alpharetta, GA 30004.
1381 | Winfield Solutions, LLC, P.O. Box 64589, St. Paul, MN 55164-0589.
1475 | Willert Home Products, Inc., 4044 Park Avenue, St. Louis, MO 63110.
2792 | Decco US Post-Harvest, Inc., 1713 South California Avenue, Monrovia, CA 91016-0120.
7313 | PPG Architectural Finishes, Inc., Agent Name: PPG Architectural Finishes, Inc., 440 College Park, Monroeville, PA 15146.
7364 | Innovative Water Care, LLC, D/B/A GLB Pool & Spa, 1400 Bluegrass Lakes Parkway, Alpharetta, GA 30004.
8660 | United Industries Corp., D/B/A Sylorr Plant Corp., P.O. Box 142642, St. Louis, MO 63114-0642.
10163 | Gowan Company, P.O. Box 5569, Yuma, AZ 85366.
34688 | Akzo Nobel Surface Chemistry, LLC, 525 W Van Buren St., Chicago, IL 60607-3823.
42750 | Albaugh, LLC, P.O. Box 2127, Valdosta, GA 31604-2127.
46923 | Old Bridge Chemicals, Inc., Agent Name: Landis International, Inc., 3185 Madison Highway, P.O. Box 5126, Valdosta, GA 31603-5126.
56228 | U.S. Department of Agriculture, Animal and Plant Health Inspection Service, 4700 River Road, Unit 149, Riverdale, MD 20737.
62719 | Dow Agrosciences, LLC, 9330 Zionsville Rd., 308/2E, Indianapolis, IN 46268-1054.
66222 | Makhteshim Agan of North America, Inc., D/B/A Adama, 3120 Highwoods Blvd., Suite 100, Raleigh, NC 27604.
69681 | Allchem Performance Products, Inc., 6010 NW First Place, Gainesville, FL 32607.
70127 | Novozymes Biologicals, Inc., Agent Name: Exponent, Inc., 1150 Conn. Ave. NW, Suite 1100, Washington, DC 20036.
70506 | UPL NA, Inc., 630 Freedom Business Center, Suite 402, King of Prussia, PA 19406.
71711 | Nichino America, Inc., 4550 Linden Hill Road, Suite 501, Wilmington, DE 19808.
80990 | Agrosource, Inc., P.O. Box 3091, Tequesta, FL 33469.
85678 | Redeagle International, LLC, Agent Name: Wagner Regulatory Associates, Inc., P.O. Box 640, Hockessin, DE 19707.
87108 | Jiangsu Yangnong Chemical Group Co., Ltd., Agent Name: Landis International, Inc., P.O. Box 5126, Valdosta, GA 31603-5126.
87663 | Emery Oleochemicals, LLC, 4900 Este Avenue, Cincinnati, OH 45232.
87703 | Spectrum Brands Pet Group, Inc., D/B/A United Pet Group, Inc., 3001 Commerce Street, Blacksburg, VA 24060.
88356 | Nicca USA, Inc., 1044 S. Nelson Dr., Fountain Inn, SC 29644.

III. Summary of Public Comments Received and Agency Response to Comments

During the public comment period provided, EPA received no comments in response to the October 25, 2019 Federal Register (84 FR 57418) (FRL-10000-07) notice announcing the Agency's receipt of the requests for voluntary cancellations and amendments to terminate uses of products listed in Tables 1 and 2 of Unit II.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations and amendments listed in Table 1 and Table 2 that are subject of this notice is January 3, 2020. Any distribution, sale, or use of existing stocks of the products identified in Tables 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the October 25, 2019 Federal Register. The comment period closed on November 25, 2019.

VI. Provisions for Disposition of Existing Stocks

Existing stocks are those stocks of registered pesticide products which are currently in the United States and which were packaged, labeled, and released for shipment prior to the effective date of the action. The existing stocks provision for the products subject to this order is as follows.

A. For products 464-782; 464-8126; 464-8127 & 464-8129

The registrant of products 464-782; 464-8126; 464-8127 & 464-8129, listed in Table 1, has requested 18-months to sell existing stocks. The registrant will be permitted to sell and distribute existing stocks of these products for 18-months after the effective date of the cancellation, which will be the date of publication of the cancellation order in the Federal Register.

For all other voluntary cancellations, identified in Table 1 of Unit II, the registrants may continue to sell and distribute existing stocks of the products listed in Table 1 until January 4, 2021, which is one year after publication of this cancellation order in the Federal Register. Thereafter, the registrants are prohibited from selling or distributing the products listed in Table 1 of Unit II, except for export in accordance with FIFRA section 17 (7 U.S.C. 136o) or for proper disposal.

Now that EPA has approved product labels reflecting the requested amendments to terminate uses, registrants are permitted to sell or distribute products listed in Table 2 of Unit II under the previously approved labeling until July 6, 2021, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: December 12, 2019.
Delores Barber,
Director, Information Technology and Resources Management Division, Office of Pesticide Programs.

[FR Doc. 2019-28335 Filed 1-2-20; 8:45 am]

BILLING CODE 6560-50-P